DEPARTMENT OF LABOR

Employment and Training Administration

[TA-W-53,937]

Johnson Controls, Inc., Laurel Hill, North Carolina; Notice of Termination of Investigation

Pursuant to section 221 of the Trade Act of 1974, an investigation was initiated on January 5, 2004, in response to a worker petition which was filed on behalf of workers at Johnston Controls, Inc., Laurel Hill, North Carolina.

An active certification covering the petitioning group of workers is already in effect (TA-W-53,481, as amended). Consequently, further investigation in this case would serve no purpose, and the investigation has been terminated.

Signed in Washington, DC this 20th day of February, 2004.
Linda G. Poole,
Certifying Officer, Division of Trade Adjustment Assistance.

[FR Doc. E4-472 Filed 3-5-04; 8:45 am]

BILLING CODE 4510-13-P